NUCLEAR REGULATORY COMMISSION

[Docket Nos. 70-7001 and 70-7002]

Paducah Gaseous Diffusion Plant, Portsmouth Gaseous Diffusion Plant, United States Enrichment Corporation; Notice of Request for Certificate Renewal and Opportunity for Comment

I. Receipt of Application and Availability of Documents

Notice is hereby given that the U. S. Nuclear Regulatory Commission (NRC or the Commission) has received by letters dated April 11, 2003, applications from the United States Enrichment Corporation (USEC) for the renewal of the certificates of compliance for the gaseous diffusion plants (GDPs) located near Paducah, Kentucky and Piketon, Ohio. The NRC issued the initial certificates of compliance for the GDPs on November 26, 1996, and assumed regulatory oversight for the GDPs on March 3, 1997. The GDPs were last issued renewed certificates of compliance on January 29, 1999. Those certificates expire December 31, 2003. The USEC renewal requests are for a five-year period, extending from the current expiration date of December 31, 2003, to December 31, 2008. The USEC applications for renewal contain a revised Depleted Uranium Management Plan and a revised Decommissioning Funding Plan but do not contain any other changes to the existing Application and Safety Analysis Report. The USEC application for the renewal of the Paducah Gaseous Diffusion Plant is based on USEC's previous Application, as revised through Revision 81 dated April 11, 2003, and USEC's previous Compliance Plan, as revised through Revision 9 dated December 1, 2000. No additional changes to the Application or Compliance Plan are requested. The USEC application for the renewal of the Portsmouth Gaseous Diffusion Plant is based on USEC's previous Application, as revised through Revision 65 dated April 11, 2003, and USEC's previous Compliance Plan, as revised through Revision 11 dated January 31, 2003. No additional changes to the Application or Compliance Plan are requested.

Copies of the renewal application for certification (except for classified and proprietary portions which are withheld in accordance with 10 CFR 2.790, “Availability of Public Records”) are available for inspection at NRC's Public Electronic Reading Room at http://www.nrc.gov/reading-rm/adams.html. Documents may also be examined and/or copied for a fee, at the NRC's Public Document Room, located at One White Flint North, 11555 Rockville Pike, Rockville, MD 20854.

II. Notice of Comment Period

Any interested party may submit written comments on the application for renewal of the certificate of compliance for either the Paducah plant or the Portsmouth plant for consideration by the staff. To be certain of consideration, comments must be received by (insert date 30 days from day of publication).

Comments received after the due date will be considered if it is practical to do so, but the Commission is able to assure consideration only for comments received on or before this date. Written comments on the application should be mailed to the Chief, Rules and Directives Branch, Division of Administrative Services, Office of Administration, U.S. Nuclear Regulatory Commission, Washington, DC 20555, or may be hand delivered to 11545 Rockville Pike, Rockville, MD 20852 between 7:45 a.m. and 4:15 p.m. Federal workdays. Comments should be legible and reproducible, and include the name, affiliation (if any), and address of the comment provider. All comments received by the Commission will be made available for public inspection at the Commission's Public Document Room located in Rockville, MD.

Following evaluation of USEC's applications for renewal, and any public comments received, the Commission staff will issue a written decision, and publish notice of the decision in the Federal Register. Upon publication of the notice of decision, any person whose interest may be affected may then request review of the decision within 30 days, pursuant to 10 CFR 76.62(c) or 76.64(d), whichever applies.

III. Further Information

For further information you may contact Mr. Dan E. Martin, concerning the Paducah plant, at (301) 415-7254, or Mr. Michael G. Raddatz, concerning the Portsmouth plant, at (301) 415-6334, of the Office of Nuclear Material Safety and Safeguards, U.S. Nuclear Regulatory Commission, Washington, DC 20555.

Dated at Rockville, Maryland, this 8th day of May 2003.
For the Nuclear Regulatory Commission.
Margaret V. Federline,
Deputy Director, Office of Nuclear Material Safety and Safeguards.

[FR Doc. 03-12599 Filed 5-19-03; 8:45 am]

BILLING CODE 7590-01-P